DEPARTMENT OF COMMERCE

International Trade Administration

[A-570-954]

Certain Magnesia Carbon Bricks From the People's Republic of China: Final Results of Antidumping Duty Administrative Review and Final Determination of No Shipments; 2018-2019

AGENCY: Enforcement and Compliance, International Trade Administration, Department of Commerce.

SUMMARY: The Department of Commerce (Commerce) continues to determine that Fedmet Resources Corporation (Fedmet) had no shipments of certain magnesia carbon bricks (magnesia carbon bricks) from the People's Republic of China (China) to the United States during the period of review (POR) September 1, 2018 through August 31, 2019. We also continue to find that the 16 remaining companies subject to this review are part of the China-wide entity because they did not file no shipment statements, separate rate applications (SRAs), or separate rate certifications (SRCs).

DATES: Applicable January 21, 2021.

FOR FURTHER INFORMATION CONTACT: Nathan James, AD/CVD Operations, Office V, Enforcement and Compliance, International Trade Administration, U.S. Department of Commerce, 1401 Constitution Avenue NW, Washington, DC 20230; telephone: (202) 482-5305.

SUPPLEMENTARY INFORMATION:

Background

On July 28, 2020, Commerce published the preliminary results of this administrative review.¹ We invited parties to comment on the Preliminary Results. No party submitted comments. Accordingly, the final results remain unchanged from the Preliminary Results.

¹ See Certain Magnesia Carbon Bricks From the People's Republic of China: Preliminary Results of Antidumping Duty Administrative Review and Preliminary Determination of No Shipments; 2018-2019, 85 FR 45375 (July 28, 2020) (Preliminary Results), and accompanying Preliminary Decision Memorandum (PDM).

Scope of the Order

The scope of the order covers magnesia carbon bricks from China. For a complete description of the scope of the order, see the Preliminary Decision Memorandum.

Final Determination of No Shipments

Commerce preliminarily found that Fedmet had no shipments of subject merchandise to the United States during the POR. As noted in Preliminary Decision Memorandum, we received a no shipment statement from Fedmet, and the statement was consistent with the information we received from U.S. Customs and Border Protection (CBP).²

² See Preliminary Results PDM at 2.

No party commented on our preliminary no-shipment finding with respect to Fedmet. Therefore, for these final results, we continue to find that Fedmet had no shipments of subject merchandise to the United States during the POR.

China-Wide Entity

With the exception of Fedmet, we find all other companies for which a review was requested to be part of the China-wide entity because they failed to file no-shipment statements, SRAs, or SRCs. Accordingly, the following companies are part of the China-wide entity: (1) Dandong Xinxing Carbon Co., Ltd.; (2) Fengchi Imp. and Exp. Co.; (3) Fengchi Imp. and Exp. Co., Ltd. of Haicheng City; (4) Fengchi Mining Co., Ltd. of Haicheng City; (5) Fengchi Refractories Co., of Haicheng City; (6) Haicheng Donghe Taidi Refractory Co., Ltd.; (7) Henan Xintuo Refractory Co., Ltd.; (8) Liaoning Fucheng Refractories; (9) Liaoning Zhongmei High Temperature Material Co., Ltd.; (10) Liaoning Zhongmei Holding Co., Ltd.; (11) RHI Refractories Liaoning Co., Ltd.; (12) Shenglong Refractories Co., Ltd.; (13) Tangshan Strong Refractories Co., Ltd.; (14) The Economic Trading Group of Haicheng Houying Corp. Ltd.; (15) Yingkou Heping Samwha Minerals, Co., Ltd.; and (16) Yingkou Heping Sanhua Materials Co., Ltd.

Because no party requested a review of the China-wide entity, and Commerce no longer considers the China-wide entity as an exporter conditionally subject to administrative reviews, we did not conduct a review of the China-wide entity. The rate previously established for the China-wide entity is 236.00 percent and is not subject to change as a result of this review.

Assessment Rates

We have not calculated any assessment rates in this administrative review. Based on record evidence, we have determined that Fedmet had no shipments of subject merchandise, and therefore, pursuant to Commerce's assessment practice, any suspended entries that entered under its case number will be liquidated at the China-wide entity rate.³

³ See Non-Market Economy Antidumping Proceedings: Assessment of Antidumping Duties, 76 FR 65694 (October 24, 2011).

For all remaining companies subject to this review, which are part of the China-wide entity, we will instruct CBP to liquidate their entries at the current rate for the China-wide entity (i.e., 236.00 percent). Commerce intends to issue appropriate assessment instructions to CBP 15 days after the publication date of the final results of this administrative review.

Cash Deposit Requirements

The following cash deposit requirements will be effective upon publication of the final results of this administrative review for shipments of subject merchandise from China entered, or withdrawn from warehouse, for consumption on or after the publication date of this notice, as provided by section 751(a)(2)(C) of the Tariff Act of 1930, as amended (the Act): (1) For previously investigated or reviewed Chinese and non-Chinese exporters that received a separate rate in a prior segment of this proceeding, and which were not assigned the China-wide rate in this review, the cash deposit rate will continue to be the existing exporter-specific rate published for the most recently completed period; (2) for all Chinese exporters of subject merchandise that have not been found to be entitled to a separate rate, the cash deposit rate will be the China-wide rate of 236.00 percent; and (3) for all non-Chinese exporters of subject merchandise which have not received their own rate, the cash deposit rate will be the rate applicable to the Chinese exporter that supplied that non-Chinese exporter. These deposit requirements, when imposed, shall remain in effect until further notice.

Notification to Importers

This notice also serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Orders

This notice also serves as the only reminder to parties subject to administrative protective order (APO) of their responsibility concerning the return or destruction of proprietary information disclosed under APO in accordance with 19 CFR 351.305(a)(3). Timely written notification of the return or destruction of APO materials or conversion to judicial protective order is hereby requested. Failure to comply with the regulations and terms of an APO is a violation subject to sanction.

Notification to Interested Parties

These final results are issued and published in accordance with sections 751(a)(1) and 777(i) of the Act, and 19 CFR 351.213(h).

Dated: January 12, 2021.
Jeffrey I. Kessler,
Assistant Secretary for Enforcement and Compliance.

[FR Doc. 2021-01166 Filed 1-19-21; 8:45 am]

BILLING CODE 3510-DS-P